Title 3—

The President

Proclamation 8103 of January 26, 2007

National African American History Month, 2007

By the President of the United States of America

A Proclamation

African Americans have been an integral part of America for generations, and our Nation is stronger because of their contributions. During National African American History Month, we honor the achievements of African Americans and recognize our continued responsibility to strive for equality for all our citizens.

With grace and determination, African-American men and women have shaped our Nation and influenced American life. Frederick Douglass, W.E.B. DuBois, Rosa Parks, and Martin Luther King, Jr., advanced the cause of civil rights for all Americans and helped change the course of American history. Educators Booker T. Washington and Carter G. Woodson helped break down racial barriers in education to provide opportunity for all people. Americans have benefited from the achievements of scientists like George Washington Carver. Artists such as Pearl Bailey, Ella Fitzgerald, and Louis Armstrong inspired Americans and created some of the most celebrated music this Nation has ever produced.

The theme of this year's National African American History Month, “From Slavery to Freedom: Africans in the Americas,” recalls African Americans' long journey to justice and commemorates the courage and persistence of the heroes who called on our Nation to live up to its founding promise. A century after African-American soldiers fought for their freedom on the battlefields of the Civil War, African Americans struggled peacefully for their rights in the streets of Birmingham, Alabama, and on the Mall in Washington, D.C. Courageous civil rights leaders answered hate and discrimination with love and dignity, toppled segregation laws, and worked to make America a more just and hopeful Nation.

All Americans can be proud of the progress we have made, yet the work for a more perfect union is not done. As we celebrate National African American History Month, we reaffirm our commitment to build a society where every individual has the opportunity to achieve the promise of this great land.

NOW, THEREFORE, I, GEORGE W. BUSH, President of the United States of America, by virtue of the authority vested in me by the Constitution and laws of the United States, do hereby proclaim February 2007 as National African American History Month. I call upon public officials, educators, and all the people of the United States to observe this month with appropriate programs and activities that honor the significant contributions African Americans have made to our Nation.

IN WITNESS WHEREOF, I have hereunto set my hand this twenty-sixth day of January, in the year of our Lord two thousand seven, and of the Independence of the United States of America the two hundred and thirty-first.

[FR Doc. 07-455

Filed 1-30-07; 8:45 am]

Billing code 3195-01-P